Title 3—

The President

Proclamation 8277 of July 24, 2008

Parents' Day, 2008

By the President of the United States of America

A Proclamation

Parents teach their children timeless values to help them make the most of life's opportunities and overcome its challenges. On Parents' Day, we pay tribute to the parents who provide their children with guidance, support, and unconditional love and who help make our country a better place.

Mothers and fathers are a source of stability and great comfort in society, and they have a vital obligation to love and care for their children. Through patient instruction and a loving example, they instill in children the principles that make our Nation strong and ensure that children have the skills to lead lives of character and integrity. As a child's primary teachers, parents are responsible for their child's education, and their efforts will contribute to a more hopeful future for our country. Parents can help shape our Nation by encouraging young people to make the right choices, become responsible citizens, and achieve their dreams.

My Administration remains dedicated to promoting Federal, State, and faith-based and community programs to assist American families and support healthy marriages and responsible parenting. We are committed to helping parents and schools enable the next generation of Americans to realize their full potential.

On Parents' Day, we honor mothers and fathers and thank them for their many years of patience and selflessness. We take this opportunity also to recognize parents of adopted children and foster parents, who generously provide children with a loving family to call their own. We also recognize the parents who serve in our Armed Forces and the parents of the brave men and women wearing our Nation's uniform. The members of our Armed Forces are defending our freedom with dignity and honor, and America is grateful for the sacrifices that they and their families make in the name of duty.

NOW, THEREFORE, I, GEORGE W. BUSH, President of the United States of America, by virtue of the authority vested in me by the Constitution and laws of the United States and consistent with Public Law 103-362, as amended, do hereby proclaim Sunday, July 27, 2008, as Parents' Day. I call upon citizens, private organizations, and governmental bodies at all levels to engage in activities and educational efforts that recognize, support, and honor parents, and I encourage American sons and daughters to convey their love, respect, and appreciation to their parents.

IN WITNESS WHEREOF, I have hereunto set my hand this twenty-fourth day of July, in the year of our Lord two thousand eight, and of the Independence of the United States of America the two hundred and thirty-third.

[FR Doc. 08-1479

Filed 07-28-08; 8:45 am]

Billing code 3195-W8-P